DEPARTMENT OF ENERGY

Federal Energy Regulatory Commission

Combined Notice of Filings #1

Take notice that the Commission received the following electric rate filings:

Docket Numbers: ER10-2398-008; ER10-2399-008; ER10-2405-008; ER10-2406-009; ER10-2407-006; ER10-2409-008; ER10-2410-008; ER10-2411-009; ER10-2412-009; ER10-2414-011; ER10-2424-006; ER10-2425-008; ER11-2935-010; ER13-1816-011; ER14-1933-008; ER16-1724-005; ER17-1315-005; ER17-1316-003; ER17-2087-003; ER18-1186-003; ER18-1189-003.

Applicants: Blackstone Wind Farm, LLC, Blackstone Wind Farm II LLC, Headwaters Wind Farm LLC, High Prairie Wind Farm II, LLC, High Trail Wind Farm, LLC, Hog Creek Wind Project, LLC, Lost Lakes Wind Farm LLC, Meadow Lake Wind Farm LLC, Meadow Lake Wind Farm II LLC, Meadow Lake Wind Farm III LLC, Meadow Lake Wind Farm IV LLC, Meadow Lake Wind Farm V LLC, Meadow Lake Wind Farm VI LLC, Old Trail Wind Farm, LLC, Paulding Wind Farm II LLC, Paulding Wind Farm III LLC, Pioneer Prairie Wind Farm I, LLC, Quilt Block Wind Farm LLC, Rail Splitter Wind Farm, LLC, Sustaining Power Solutions LLC, Turtle Creek Wind Farm LLC.

Description: Notice of Non-Material Change in Status of Blackstone Wind Farm, LLC, et al.

Filed Date: 6/6/19.

Accession Number: 20190606-5073.

Comments Due: 5 p.m. ET 6/27/19.

Docket Numbers: ER19-1428-001.

Applicants: ISO New England Inc.

Description: Tariff Amendment: ISO-NE Response to Req. for Add'l. Information Re: Inventoried Energy Program to be effective 5/28/2019.

Filed Date: 6/6/19.

Accession Number: 20190606-5047.

Comments Due: 5 p.m. ET 6/27/19.

Docket Numbers: ER19-2052-000.

Applicants: NorthWestern Corporation, Avista Corporation, Puget Sound Energy, Inc., PacifiCorp, Portland General Electric Company.

Description: § 205(d) Rate Filing: RS 325—LGIA between Colstrip Transmission Owners and Clearwater Energy to be effective 5/21/2019.

Filed Date: 6/5/19.

Accession Number: 20190605-5117.

Comments Due: 5 p.m. ET 6/26/19.

Docket Numbers: ER19-2053-000.

Applicants: Southwestern Public Service Company.

Description: § 205(d) Rate Filing: SPS-GSEC-Op Agrmt for Load Interupt Equip—691-NOC to be effective 6/25/2019.

Filed Date: 6/5/19.

Accession Number: 20190605-5118.

Comments Due: 5 p.m. ET 6/26/19.

Docket Numbers: ER19-2054-000.

Applicants: San Diego Gas & Electric Company.

Description: § 205(d) Rate Filing: Revision to SDGE FERC Electric Tariff Volume 10 to be effective 8/4/2019.

Filed Date: 6/5/19.

Accession Number: 20190605-5130.

Comments Due: 5 p.m. ET 6/26/19.

Docket Numbers: ER19-2055-000.

Applicants: PJM Interconnection, L.L.C.

Description: Tariff Cancellation: Notice of Cancellation of WMPA SA No. 4503; Queue No. AB1-166 to be effective 7/22/2019.

Filed Date: 6/5/19.

Accession Number: 20190605-5131.

Comments Due: 5 p.m. ET 6/26/19.

Docket Numbers: ER19-2056-000.

Applicants: Avista Corporation.

Description: § 205(d) Rate Filing: Avista Corp Clearwater Energy LGIA RS T1153 to be effective 6/5/2019.

Filed Date: 6/6/19.

Accession Number: 20190606-5000.

Comments Due: 5 p.m. ET 6/27/19.

Docket Numbers: ER19-2057-000.

Applicants: Portland General Electric Company.

Description: § 205(d) Rate Filing: Clearwater Energy Resources LLC LGIA to be effective 5/21/2019.

Filed Date: 6/6/19.

Accession Number: 20190606-5001.

Comments Due: 5 p.m. ET 6/27/19.

Docket Numbers: ER19-2059-000.

Applicants: Southwest Power Pool, Inc.

Description: § 205(d) Rate Filing: 1976R8 FreeState Electric Cooperative, Inc. NITSA and NOA to be effective 9/1/2019.

Filed Date: 6/6/19.

Accession Number: 20190606-5034.

Comments Due: 5 p.m. ET 6/27/19.

Docket Numbers: ER19-2060-000.

Applicants: PJM Interconnection, L.L.C.

Description: § 205(d) Rate Filing: Original WMPA SA No. 5413; Queue No. AD2-210 to be effective 5/10/2019.

Filed Date: 6/6/19.

Accession Number: 20190606-5040.

Comments Due: 5 p.m. ET 6/27/19.

Docket Numbers: ER19-2061-000.

Applicants: Southwest Power Pool, Inc.

Description: § 205(d) Rate Filing: 2881R8 City of Chanute, KS NITSA NOA to be effective 9/1/2019.

Filed Date: 6/6/19.

Accession Number: 20190606-5041.

Comments Due: 5 p.m. ET 6/27/19.

Docket Numbers: ER19-2062-000.

Applicants: AEP Texas Inc.

Description: § 205(d) Rate Filing: AEPTX-Callahan Wind Divide Interconnection Agreement First Amend and Restated to be effective 5/22/2019.

Filed Date: 6/6/19.

Accession Number: 20190606-5046.

Comments Due: 5 p.m. ET 6/27/19.

Docket Numbers: ER19-2063-000.

Applicants: AEP Texas Inc.

Description: § 205(d) Rate Filing: AEPTX-Horse Hollow Wind I GIA 1st Amend and Restated to be effective 5/22/2019.

Filed Date: 6/6/19.

Accession Number: 20190606-5053.

Comments Due: 5 p.m. ET 6/27/19.

Docket Numbers: ER19-2064-000.

Applicants: AEP Texas Inc.

Description: § 205(d) Rate Filing: AEPTX-Horse Hollow Wind III GIA 1st Amend & Restated to be effective 5/22/2019.

Filed Date: 6/6/19.

Accession Number: 20190606-5054.

Comments Due: 5 p.m. ET 6/27/19.

Docket Numbers: ER19-2065-000.

Applicants: Midcontinent Independent System Operator, Inc., Ameren Illinois Company.

Description: § 205(d) Rate Filing: 2019-06-06_SA 2026 Ameren-Hannibal 2nd Rev WDS to be effective 8/1/2019.

Filed Date: 6/6/19.

Accession Number: 20190606-5069.

Comments Due: 5 p.m. ET 6/27/19.

Docket Numbers: ER19-2066-000.

Applicants: Southwest Power Pool, Inc.

Description: § 205(d) Rate Filing: Revisions to Attachmen W to Update Index of Grandfathered Agreements to be effective 8/5/2019.

Filed Date: 6/6/19.

Accession Number: 20190606-5080.

Comments Due: 5 p.m. ET 6/27/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 6, 2019.
Kimberly D. Bose,
Secretary.

[FR Doc. 2019-12400 Filed 6-11-19; 8:45 am]

BILLING CODE 6717-01-P